DEPARTMENT OF THE INTERIOR

Bureau of Land Management

[LLAK910000-L13100000.PP0000-L.X.SS.052L0000]

Notice of Public Meeting, BLM-Alaska Resource Advisory Council

AGENCY: Bureau of Land Management, Alaska State Office, Interior.

ACTION: Notice of public meeting.

SUMMARY: In accordance with the Federal Land Policy and Management Act (FLPMA) and the Federal Advisory Committee Act of 1972 (FACA), the U.S. Department of the Interior, Bureau of Land Management (BLM) Alaska Resource Advisory Council (RAC) will meet as indicated below.

DATES: The meeting will be held April 18, 19 and 20, 2012. On April 18, the meeting will be at the Office of Aircraft Services, Alaska Regional Office, 4405 Lear Court, Anchorage, Alaska 99502 starting at 9 a.m. in the first floor conference room. The council will accept public comment on April 18 from 3 to 4 p.m. On April 19 and 20, the meeting location changes to the Borealis Conference Room at the Crown Plaza Hotel, 109 W. International Airport Road, Anchorage, Alaska 99518 and begins at 8:30 a.m. each day.

FOR FURTHER INFORMATION CONTACT: Thom Jennings, RAC Coordinator; BLM-Alaska State Office; 222 W. 7th Avenue #13, Anchorage, AK 99513. Telephone 907-271-3335 or email tjenning@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member Council advises the Secretary of the Interior, through the Bureau of Land Management, on a variety of planning and management issues associated with public land management in Alaska. At this meeting, topics planned for discussion include:

• National Petroleum Reserve-Alaska Draft Integrated Activity Plan and Environmental Impact Statement

• District Manager reports

• Alaska Lands Conveyance update

• Other topics of interest to the RAC

All meetings are open to the public. Depending on the number of people wishing to comment and time available, the time for individual oral comments may be limited, so be prepared to submit written comments if necessary. Before including your address, phone number, email address, or other personal identifying information in your comment, you should be aware that your entire comment—including your personal identifying information—may be made publicly available at any time. While you can ask us in your comment to withhold your personal identifying information from public review, we cannot guarantee that we will be able to do so. Individuals who plan to attend and need special assistance, such as sign language interpretation, transportation, or other reasonable accommodations, should contact the BLM RAC Coordinator listed above.

Dated: March 16, 2012.
Bud C. Cribley,
State Director.

[FR Doc. 2012-6887 Filed 3-21-12; 8:45 am]

BILLING CODE 4310-JA-P